ENVIRONMENTAL PROTECTION AGENCY

[FRL-9936-18—Region 6]

Clean Air Act Operating Permit Program; Petition for Objection to State Operating Permits for Shell Chemical LP Deer Park Chemical Plant and Shell Oil Company Deer Park Refinery in Texas

AGENCY: Environmental Protection Agency (EPA).

ACTION: Notice of final action.

SUMMARY: Pursuant to Clean Air Act (CAA) Section 505(b)(2) and 40 CFR 70.8(d), the EPA Administrator signed an Order, dated September 24, 2015, granting in part and denying in part two petitions asking EPA to object to operating permits issued by the Texas Commission on Environmental Quality for Shell Chemical LP's Deer Park Chemical Plant and Shell Oil Company's Deer Park Refinery (Title V operating permit numbers O1668 and O1669). The EPA's September 24, 2015 Order responds to the two petitions, dated May 19, 2014, submitted by the Environmental Integrity Project (EIP), Sierra Club, and Air Alliance Houston. Sections 307(b) and 505(b)(2) of the CAA provide that a petitioner may ask for judicial review by the United States Court of Appeals for the appropriate circuit of those portions of the Order that deny issues raised in the petition. Any petition for review shall be filed within 60 days from the date this notice appears in the Federal Register, pursuant to section 307(b) of the CAA.

ADDRESSES: You may review copies of the final Order, the petition, and other supporting information at EPA Region 6, 1445 Ross Avenue, Dallas, Texas 75202-2733.

EPA requests that if at all possible, you contact the individual listed in the FOR FURTHER INFORMATION CONTACT section to view copies of the final Order, petitions, and other supporting information. You may view the hard copies Monday through Friday, from 9:00 a.m. to 3:00 p.m., excluding Federal holidays. If you wish to examine these documents, you should make an appointment at least 24 hours before the visiting day. Additionally, the final September 24, 2015 Order is available electronically at: http://www2.epa.gov/title-v-operating-permits/order-responding-2014-petition-requesting-administrator-object-deer-park.

FOR FURTHER INFORMATION CONTACT: Aimee Wilson at (214) 665-7596, email address: wilson.aimee@epa.gov or the above EPA, Region 6 address.

SUPPLEMENTARY INFORMATION: The CAA affords EPA a 45-day period to review, and object, as appropriate, to a title V operating permit proposed by a state permitting authority. Section 505(b)(2) of the CAA authorizes any person to petition the EPA Administrator, within 60 days after the expiration of this review period, to object to a title V operating permit if EPA has not done so. Petitions must be based only on objections to the permit that were raised with reasonable specificity during the public comment period provided by the state, unless the petitioner demonstrates that it was impracticable to raise such objections during the comment period or unless the grounds for the objection arose after this period.

The Petitioners maintain that the Shell Deer Park title V operating permits are inconsistent with the Act based on the following contentions: (1) The proposed permits' incorporation by reference of minor NSR authorizations fails to assure compliance; (2) The proposed permits' incorporation by reference of permits by rule fails to assure compliance; (3) The proposed permits fail to require monitoring, recordkeeping, and reporting sufficient to assure compliance with applicable requirements; (4) The proposed permit for the Deer Park Refinery impermissibly uses the permit shield provisions; (5) The proposed permits fail to require Shell to obtain SIP-approved authorizations for qualified facilities changes; (6) The proposed permit for the Chemical Plant fails to address Shell's non-compliance with 30 Texas Administrative Code section 116.116(d), which requires PBRs for previously permitted facilities to be incorporated into existing permits on renewal or amendment; (7) The Executive Director's revision to draft permits' special condition 28 in O1668 and special condition 29 in O1669 are improper; and (8) The proposed permits must clarify that credible evidence may be used by citizens to enforce the terms and conditions of the permits. The claims are described in detail in Section IV of the Order.

Pursuant to sections 505(b) and 505(e) of the Clean Air Act (42 U.S.C. 7661d(b) and (e)) and 40 CFR 70.7(g) and 70.8(d), the Texas Commission on Environmental Quality (TCEQ) has 90 days from the receipt of the Administrator's order to resolve the objections identified in Claims 2., 3.B., 3.C., and 6. of the Order and submit a proposed determination or termination, modification, or revocation and reissuance of the Shell Deer Park title V permits in accordance with EPA's objections. The Order issued on September 24, 2015 responds to the Petitions and explains the basis for EPA's decisions.

Dated: October 15, 2015.
Samuel Coleman,
Acting Regional Administrator, Region 6.

[FR Doc. 2015-27161 Filed 10-23-15; 8:45 am]

BILLING CODE 6560-50-P